DEPARTMENT OF ENERGY

Federal Energy Regulatory Commission

[Docket Nos. ER01-313-005, ER01-424-005, and EL03-131-002]

California Independent System Operator Corporation, Pacific Gas and Electric Company, San Diego Gas & Electric Company v. California Independent System Operator Corporation; Notice of Filing

February 26, 2004.

Take notice that on February 23, 2004, California Independent System Operator Corporation (ISO), tendered for filing a compliance refund report pursuant to the Commission's Order issued January 23, 2004, in Docket No. ER01-313-003, et al.

ISO also states that, in addition to the official service lists for the above-referenced proceedings it has served copies to all ISO Scheduling Coordinators, the California Public Utilities Commission, the California Energy Commission and the California Electricity Oversight Board.

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the eLibrary (FERRIS) link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Comment Date: March 15, 2004.
Linda Mitry,
Acting Secretary.

[FR Doc. E4-451 Filed 3-2-04; 8:45 am]

BILLING CODE 6717-01-P